DEPARTMENT OF HEALTH AND HUMAN SERVICES

Office of Refugee Resettlement

[C.F.D.A. Number: 93.566]

Notice of FY 2012 Refugee Social Services Formula Awards to States and Wilson/Fish Alternative Project Grantees

AGENCY: Office of Refugee Resettlement, ACF, HHS.

ACTION: Notice of awards.

CFDA Number: 93.566.

SUMMARY: The Office of Refugee Resettlement, Administration for Children and Families (ACF), announces the allocation of Refugee Social Services formula awards to States and Wilson/Fish Alternative Project grantees. The purpose of the Social Services program is to provide employment, English language, orientation, and other resettlement services to refugees, Amerasians, asylees, Cuban and Haitian entrants, victims of trafficking, and Iraqis and Afghans with Special Immigrant Visas. The awards are determined by the number of the eligible populations residing in the State during the two-year period from October 1, 2009, to September 30, 2011. States with allocations under $100,000 through this calculation instead receive floor allocations ranging from $75,000 to $100,000 depending on the number of the eligible population in each State. The purpose of the floor allocations is to ensure that all participating States receive an award sufficient to maintain a program of resettlement services.

The FY 2012 formula allocations for Social Services are available on ORR's Web site at: http://www.acf.hhs.gov/programs/orr/policy/fy2012_formula_allocations_refugee_socialservices.htm.

DATES: The awards are effective immediately. Funds must be obligated by September 30, 2013, and funds must be expended by September 30, 2014.

FOR FURTHER INFORMATION CONTACT: Henley Portner, Office of the Director, Office of Refugee Resettlement, (202) 401-5363, Henley.Portner@acf.hhs.gov.

Statutory Authority: Sections 412(c)(1)(B) of the Immigration and Nationality Act (INA) (8 U.S.C. 1522(c)(1)(B)).

Eskinder Negash,
Director, Office of Refugee Resettlement.

[FR Doc. 2012-21401 Filed 8-29-12; 8:45 am]

BILLING CODE 4184-46-P